DEPARTMENT OF TRANSPORTATION

Federal Aviation Administration

14 CFR Part 71

[Docket No. FAA-2025-2433; Airspace Docket No. 25-ANM-153]

RIN 2120-AA66

Establishment of Class E Airspace; Manila Airport, Manila, UT

AGENCY: Federal Aviation Administration (FAA), DOT.

ACTION: Final rule.

SUMMARY: This action establishes Class E Airspace extending upward from 700 feet above the surface at Manila Airport, Manila, UT, to support the safety and management of instrument flight rules (IFR) operations at the airport.

DATES: Effective date 0901 UTC, March 19, 2026. The Director of the Federal Register approves this incorporation by reference action under 1 CFR part 51, subject to the annual revision of FAA Order JO 7400.11 and publication of conforming amendments.

ADDRESSES: A copy of the notice of proposed rulemaking (NPRM), all comments received, this final rule, and all background material may be viewed online at www.regulations.gov using the FAA Docket number. Electronic retrieval help and guidelines are available on the website. It is available 24 hours each day, 365 days each year. An electronic copy of this document may also be downloaded from www.federalregister.gov.

FAA Order JO 7400.11K, Airspace Designations and Reporting Points, and subsequent amendments can be viewed online at www.faa.gov/air_traffic/publications/.

FOR FURTHER INFORMATION CONTACT: Nathan A. Chaffman, Federal Aviation Administration, Western Service Center, Operations Support Group, 2200 S 216th Street, Des Moines, WA 98198; telephone (206) 231-3460.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it establishes Class E airspace to support IFR operations at Manila Airport, Manila, UT.

History

The FAA published an NPRM for Docket No. FAA-2025-2433 in the Federal Register (90 FR 45678; September 23, 2025), proposing to establish Class E airspace at Manila Airport, Manila, UT. Interested parties were invited to participate in this rulemaking effort by submitting written comments on the proposal to the FAA. Three comments were received. Two comments were in favor of the proposal. The third comment was not germane; although the commentor addressed the rulemaking process, they commented on the docket as if it were a final rule, specifically referring to the action as such, instead of a proposed action. As such, the deficiencies claimed by the commenter were inaccurate given the actual stage of rulemaking. The FAA has confirmed that all regulatory requirements for this action have been satisfied.

Incorporation by Reference

Class E airspace areas are published in paragraph 6005 of FAA Order JO 7400.11, Airspace Designations and Reporting Points, which is incorporated by reference in 14 CFR 71.1 on an annual basis. This document amends the current version of that order, FAA Order JO 7400.11K, dated August 4, 2025, and effective September 15, 2025. These amendments will be published in the next update to FAA Order JO 7400.11. FAA Order JO 7400.11K, which lists Class A, B, C, D, and E airspace areas, air traffic service routes, and reporting points, is publicly available as listed in the ADDRESSES section of this document.

The Rule

This action amends 14 CFR part 71 by establishing Class E airspace extending upward from 700 feet above the surface at Manila Airport, Manila, UT, to support the airport's transition to IFR service by providing containment for the Area Navigation (RNAV) (Global Positioning System [GPS]) Runway (RWY) 25 approach procedure and two obstacle departure procedures.

To fully contain the procedures developed for Manila Airport, a semi-circle of Class E airspace is established to encompass the airport from the west, clockwise to the east. The airspace portion to the west extends to the airport's 4.8-mile radius, and the north-through-eastern portion extends to the airport's 6-mile radius to contain departing IFR aircraft until reaching 1,200 feet above the surface and arriving IFR aircraft below 1,500 feet above the surface while executing the RNAV (GPS) RWY 25 missed approach procedure. Lastly, a 13.6-mile extension is established to the east to contain arriving IFR aircraft below 1,500 feet above the surface while executing the RNAV (GPS) RWY 25 approach procedure.

Transitional Class E airspace extending upward from 1,200 feet is not necessary at Manila Airport, as the Wasatch and Cherokee Class E Domestic En Route Airspace Areas provide necessary containment.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1G, FAA National Environmental Policy Act Implementing Procedures, paragraph B-2.5(a). This airspace action is not expected to cause any potentially significant environmental impacts, and no extraordinary circumstances exist that warrant preparation of an environmental assessment.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11K, Airspace Designations and Reporting Points, dated August 4, 2025, and effective September 15, 2025, is amended as follows:

Paragraph 6005 Class E Airspace Areas Extending Upward From 700 Feet or More Above the Surface of the Earth.

* * * * *

ANM UT E5 Manila, UT [New]

Manila Airport, UT

(Lat. 40°59′11″ N, long. 109°40′43″ W)

That airspace extending upward from 700 feet above the surface within a 6-mile radius of the airport between its 341° bearing clockwise to its 069° bearing, within 2.2 miles north and 2 miles south of the airport's 090° bearing extending to 13.6 miles east, within 1.3 miles north and 2 miles south of the airport's 270° bearing extending west to the airport's 4.8-mile radius, and within a 4.8-mile radius of the airport between its 285° bearing clockwise to its 342° bearing.

* * * * *

Issued in Des Moines, Washington, on December 10, 2025.
B.G. Chew,
Group Manager, Operations Support Group, Western Service Center.

[FR Doc. 2025-22771 Filed 12-12-25; 8:45 am]

BILLING CODE 4910-13-P